DEPARTMENT OF LABOR

Mine Safety and Health Administration

30 CFR Parts 56, 57, 62, 70 and 71

RIN 1219-AA53

Health Standards for Occupational Noise Exposure; Correction

AGENCY: Mine Safety and Health Administration (MSHA), Labor.

ACTION: Final rule; corrections.

SUMMARY: This document contains corrections to the preamble to the final rule which was published in the Federal Register of Monday, September 13, 1999 (64 FR 49548). The rule related to the health standards for occupational noise exposure.

DATES: Effective October 17, 2000.

FOR FURTHER INFORMATION CONTACT: Carol J. Jones, Director, Office of Standards, Regulations, and Variances, MSHA, (703) 235-1910 (not a toll-free call).

SUPPLEMENTARY INFORMATION: As published, the preamble contains errors which may prove to be misleading and which need to be corrected.

Accordingly, the preamble is corrected as follows:

1. On page 49551, in “Chart 1: General Requirements” under the heading Noise level, the phrase “At or above 105 dBA (dual hearing protection level)” should read “Above 105 dBA (dual hearing protection level).”

2. On page 49551, in “Comparison Chart 2: General Features” under the heading Final rule, the third entry should read “80 dBA for action level and 90 dBA for PEL.”

3. On page 49558, in the second column, in the last sentence, the word “tone” should be deleted to make the sentence read “Most definitions of hearing impairment are based solely on pure audiometry, in which an audiometer is used to measure an individual's threshold hearing level—the lowest level of discrete frequency tones that he or she can hear.”

4. On page 49590, in the second column, in the first paragraph, in the last sentence, the word “regulations” should be changed to “standards” to make the sentence read “Accordingly, MSHA has concluded that noise falls within the scope of section 103(c) of the Mine Act, and that MSHA has the authority to establish standards that provide miners and their representatives access to noise exposure monitoring conducted by mine operators.”

5. On page 49607, in the third column, in the first full paragraph, in the first full sentence, the words “equals or” should be inserted so that the sentence reads “The final rule, like the proposal, requires mine operators to offer miners whose noise exposure equals or exceeds the action level the opportunity for audiometric . . .”

6. On page 49608, in the second column, in the first full paragraph, in the first sentence, the words “equals or” should be inserted so that the sentence reads “Under § 62.120 of the final rule, mine operators must enroll miners whose exposure to noise equals or exceeds the action level in a hearing conservation program . . .”

7. On page 49627, in the first column, in the first full paragraph, in the fourth sentence, the term “Paragraph (c)” should be changed to “Paragraph (b).” In the second full paragraph, in the first sentence, the term “Paragraph (a)(3)” should be changed to “Paragraph (b).” In the third full paragraph, in the first sentence, the term “Paragraph (b)(1)” should be changed to “Paragraph (c)(1).” In the last paragraph, in the last sentence, the term “Paragraph (b)(1)” should be changed to “Paragraph (c)(1).” In the second column, in the first full paragraph, in the first sentence, the term “Paragraph (b)(2)” should be changed to “Paragraph (c)(2),” and in the last sentence the term “Paragraph (b)(2)” should be changed to “Paragraph (c)(2).”

Dated: September 28, 2000.
J. Davitt McAteer,
Assistant Secretary for Mine Safety and Health.

[FR Doc. 00-26620 Filed 10-16-00; 8:45 am]

BILLING CODE 4510-43-U